DEPARTMENT OF ENERGY

Federal Energy Regulatory Commission

Combined Notice of Filings #1

Take notice that the Commission received the following electric corporate filings:

Docket Numbers: EC25-16-000.

Applicants: Tenaska Frontier Partners, Ltd.

Description: Application for Authorization Under Section 203 of the Federal Power Act of Tenaska Frontier Partners, Ltd.

Filed Date: 10/30/24.

Accession Number: 20241030-5298.

Comment Date: 5 p.m. ET 12/16/24.

Take notice that the Commission received the following exempt wholesale generator filings:

Docket Numbers: EG25-23-000.

Applicants: Calvada Energy.

Description: Calvada Energy submits Notice of Self-Certification of Exempt Wholesale Generator Status.

Filed Date: 10/31/24.

Accession Number: 20241031-5341.

Comment Date: 5 p.m. ET 11/21/24.

Take notice that the Commission received the following electric rate filings:

Docket Numbers: ER10-3050-014; ER10-3053-014.

Applicants: Whitewater Hill Wind Partners, LLC, Cabazon Wind Partners, LLC.

Description: Notice of Non-Material Change in Status of Cabazon Wind Partners, LLC, et al.

Filed Date: 10/30/24.

Accession Number: 20241030-5295.

Comment Date: 5 p.m. ET 11/20/24.

Docket Numbers: ER12-164-026; ER10-1882-014; ER10-1894-014; ER10-2563-010; ER18-2203-006; ER19-1402-005; ER20-2288-006; ER22-2046-005.

Applicants: Sapphire Sky Wind Energy LLC, Tatanka Ridge Wind, LLC, Coyote Ridge Wind, LLC, Upper Michigan Energy Resources Corporation, Wisconsin Electric Power Company, Wisconsin Public Service Corporation, Wisconsin River Power Company, Bishop Hill Energy III LLC.

Description: Notice of Non-Material Change in Status of Bishop Hill Energy III LLC, et al.

Filed Date: 10/31/24.

Accession Number: 20241031-5356.

Comment Date: 5 p.m. ET 11/21/24.

Docket Numbers: ER16-2044-004.

Applicants: Elk Hills Power, LLC.

Description: Notice of Non-Material Change in Status of Elk Hills Power, LLC.

Filed Date: 10/30/24.

Accession Number: 20241030-5296.

Comment Date: 5 p.m. ET 11/20/24.

Docket Numbers: ER17-256-021; ER17-242-020; ER17-243-020; ER17-245-020; ER17-652-020.

Applicants: Lightstone Marketing LLC, Waterford Power, LLC, Lawrenceburg Power, LLC, Gavin Power, LLC, Darby Power, LLC.

Description: Notice of Non-Material Change in Status of Darby Power, LLC, et al.

Filed Date: 10/31/24.

Accession Number: 20241031-5357.

Comment Date: 5 p.m. ET 11/21/24.

Docket Numbers: ER20-1629-006; ER11-2036-016; ER18-2327-009; ER18-2492-010; ER19-902-004; ER19-1793-003; ER19-1795-003; ER19-1796-003; ER19-1797-003; ER19-1798-003; ER19-1799-003; ER19-2395-002; ER20-902-005; ER20-1593-007; ER20-1594-006; ER20-1596-007; ER20-1597-007; ER20-1599-007; ER20-1620-006; ER21-2767-004; ER22-414-006; ER22-1518-004; ER23-495-007; ER23-1503-002; ER23-2346-004; ER23-2439-003; ER23-2448-004; ER23-2450-003; ER23-2451-003; ER23-2511-003; ER24-2103-002; ER24-2327-001.

Applicants: Calhoun County Solar Project, LLC, Keydet Solar Center, LLC, Hardy Hills Solar Energy LLC, Great Cove Solar II LLC, Great Cove Solar LLC, Tunica Windpower LLC, Cavalier Solar A2, LLC, Oak Ridge Solar, LLC, Cavalier Solar A, LLC, AES CE Solutions, LLC, Laurel Mountain BESS, LLC, AES Marketing and Trading, LLC, Skipjack Solar Center, LLC, AES Solutions Management, LLC, Richmond Spider Solar, LLC, Pleinmont Solar 2, LLC, Pleinmont Solar 1, LLC, Highlander IA, LLC, Highlander Solar Energy Station 1, LLC, sPower Energy Marketing LLC, AES Integrated Energy, LLC, Valcour Wethersfield Windpark, LLC, Valcour Ellenburg Windpark, LLC, Valcour Clinton Windpark, LLC, Valcour Chateaugay Windpark, LLC, Valcour Bliss Windpark, LLC, Valcour Altona Windpark, LLC, Valcour Wind Energy, LLC, FTS Master Tenant 2, LLC, Riverhead Solar Farm, LLC, AES Laurel Mountain, LLC, AES ES Alamitos, LLC.

Description: Notice of Change in Status of AES ES Alamitos, LLC, et al.

Filed Date: 10/30/24.

Accession Number: 20241030-5297.

Comment Date: 5 p.m. ET 11/20/24.

Docket Numbers: ER24-917-003.

Applicants: Placerita ESS, LLC.

Description: Notice of Non-Material Change in Status of Placerita ESS, LLC.

Filed Date: 10/30/24.

Accession Number: 20241030-5294.

Comment Date: 5 p.m. ET 11/20/24.

Docket Numbers: ER24-2505-001.

Applicants: Solar Star 3, LLC.

Description: Tariff Amendment: Response to Deficiency Letter to be effective 9/10/2024.

Filed Date: 11/1/24.

Accession Number: 20241101-5138.

Comment Date: 5 p.m. ET 11/22/24.

Docket Numbers: ER24-2506-001.

Applicants: Solar Star 4, LLC.

Description: Tariff Amendment: Response to Deficiency Letter to be effective 9/10/2024.

Filed Date: 11/1/24.

Accession Number: 20241101-5143.

Comment Date: 5 p.m. ET 11/22/24.

Docket Numbers: ER25-316-000.

Applicants: Wisconsin Electric Power Company.

Description: § 205(d) Rate Filing: Section 205 Filing for Oak Creek Power Plant Retirement to be effective 12/31/2024.

Filed Date: 10/31/24.

Accession Number: 20241031-5323.

Comment Date: 5 p.m. ET 11/21/24.

Docket Numbers: ER25-317-000.

Applicants: Southwest Power Pool, Inc.

Description: § 205(d) Rate Filing: 3330R5 City of Nixa, Missouri NITSA NOAs to be effective 10/1/2024.

Filed Date: 10/31/24.

Accession Number: 20241031-5332.

Comment Date: 5 p.m. ET 11/21/24.

Docket Numbers: ER25-318-000.

Applicants: Central Power & Lime LLC, Southwest Power Pool, Inc.

Description: § 205(d) Rate Filing: Central Power & Lime LLC submits tariff filing per 35.13(a)(2)(iii: Central Power Electric Cooperative, Inc. Formula Rate Revisions to be effective 1/1/2025.

Filed Date: 11/1/24.

Accession Number: 20241101-5032.

Comment Date: 5 p.m. ET 11/22/24.

Docket Numbers: ER25-319-000.

Applicants: Midcontinent Independent System Operator, Inc., ALLETE, Inc.

Description: § 205(d) Rate Filing: Midcontinent Independent System Operator, Inc. submits tariff filing per 35.13(a)(2)(iii: 2024-11-01_ALLETE Depreciation Rates to be effective 1/1/2024.

Filed Date: 11/1/24.

Accession Number: 20241101-5038.

Comment Date: 5 p.m. ET 11/22/24.

Docket Numbers: ER25-321-000.

Applicants: DesertLink, LLC.

Description: § 205(d) Rate Filing: DesertLink LLC Annual TRBAA Filing to be effective 1/1/2025.

Filed Date: 11/1/24.

Accession Number: 20241101-5045.

Comment Date: 5 p.m. ET 11/22/24.

Docket Numbers: ER25-322-000.

Applicants: Northern States Power Company, a Minnesota corporation.

Description: § 205(d) Rate Filing: 2025 Interchange Agreement Annual FIling to be effective 1/1/2025.

Filed Date: 11/1/24.

Accession Number: 20241101-5047.

Comment Date: 5 p.m. ET 11/22/24.

Docket Numbers: ER25-323-000.

Applicants: Midcontinent Independent System Operator, Inc.

Description: Compliance filing: 2024-11-01_MISO TOs Compliance for Order 898 to be effective 1/1/2025.

Filed Date: 11/1/24.

Accession Number: 20241101-5066.

Comment Date: 5 p.m. ET 11/22/24.

Docket Numbers: ER25-324-000.

Applicants: Midcontinent Independent System Operator, Inc., Citizens Electric Corporation.

Description: § 205(d) Rate Filing: Midcontinent Independent System Operator, Inc. submits tariff filing per 35.13(a)(2)(iii: 2024-11-01_Citizen's Electric Corporation (CEC) TO Integration to be effective 2/1/2025.

Filed Date: 11/1/24.

Accession Number: 20241101-5082.

Comment Date: 5 p.m. ET 11/22/24.

Docket Numbers: ER25-325-000.

Applicants: Midcontinent Independent System Operator, Inc.

Description: § 205(d) Rate Filing: 2024-11-01_RPU Request for Approval of Transmission Rate Incentives to be effective 1/1/2025.

Filed Date: 11/1/24.

Accession Number: 20241101-5083.

Comment Date: 5 p.m. ET 11/22/24.

Docket Numbers: ER25-326-000.

Applicants: PacifiCorp.

Description: Tariff Amendment: Termination of Tri-State, Empire Const Agmt at Pinto to be effective 1/20/2025.

Filed Date: 11/1/24.

Accession Number: 20241101-5098.

Comment Date: 5 p.m. ET 11/22/24.

Docket Numbers: ER25-327-000.

Applicants: Midcontinent Independent System Operator, Inc., Michigan Electric Transmission Company, LLC.

Description: § 205(d) Rate Filing: Midcontinent Independent System Operator, Inc. submits tariff filing per 35.13(a)(2)(iii: 2024-11-01_SA 4379 METC-DTE Electric Company E&P (J1939) to be effective 10/25/2024.

Filed Date: 11/1/24.

Accession Number: 20241101-5112.

Comment Date: 5 p.m. ET 11/22/24.

Docket Numbers: ER25-328-000.

Applicants: ISO New England Inc., New England Power Pool Participants Committee.

Description: § 205(d) Rate Filing: ISO New England Inc. submits tariff filing per 35.13(a)(2)(iii: Rev. to Coordination Agreement—ISO-NE and New Brunswick Power Corp. to be effective 11/1/2024.

Filed Date: 11/1/24.

Accession Number: 20241101-5114.

Comment Date: 5 p.m. ET 11/22/24.

Docket Numbers: ER25-329-000.

Applicants: Midcontinent Independent System Operator, Inc., Ameren Illinois Company.

Description: § 205(d) Rate Filing: Midcontinent Independent System Operator, Inc. submits tariff filing per 35.13(a)(2)(iii: 2024-11-01_SA 4155 Ameren IL-Coles Wind 1st Rev E&P (J2128) to be effective 11/2/2024.

Filed Date: 11/1/24.

Accession Number: 20241101-5132.

Comment Date: 5 p.m. ET 11/22/24.

Docket Numbers: ER25-330-000.

Applicants: Georgia Power Company.

Description: Tariff Amendment: Cancellation of Dominion Affected System Agreement Concurrence to be effective 10/28/2024.

Filed Date: 11/1/24.

Accession Number: 20241101-5135.

Comment Date: 5 p.m. ET 11/22/24.

Docket Numbers: ER25-331-000.

Applicants: Southwestern Public Service Company.

Description: § 205(d) Rate Filing: 2024.11.01—FERC Order 898 Filing—Production to be effective 1/1/2025.

Filed Date: 11/1/24.

Accession Number: 20241101-5146.

Comment Date: 5 p.m. ET 11/22/24.

Docket Numbers: ER25-332-000.

Applicants: PJM Interconnection, L.L.C.

Description: § 205(d) Rate Filing: Ministerial Clean-Up Filing regarding Hybrids Phase II Implementation to be effective 12/1/2024.

Filed Date: 11/1/24.

Accession Number: 20241101-5153.

Comment Date: 5 p.m. ET 11/22/24.

Docket Numbers: ER25-333-000.

Applicants: DATC Path 15, LLC.

Description: § 205(d) Rate Filing: Normal filing 2025 Appendix I to be effective 1/1/2025.

Filed Date: 11/1/24.

Accession Number: 20241101-5158.

Comment Date: 5 p.m. ET 11/22/24.

Docket Numbers: ER25-334-000.

Applicants: ITC Midwest LLC.

Description: § 205(d) Rate Filing: ITC-NEP Distribution-Transmission Interconnection Agreement to be effective 1/1/2025.

Filed Date: 11/1/24.

Accession Number: 20241101-5170.

Comment Date: 5 p.m. ET 11/22/24.

Docket Numbers: ER25-335-000.

Applicants: AlbertaEx, L.P.

Description: § 205(d) Rate Filing: Revisions to MBR Tariffs to Restore MBR Authority in Northwestern BAA to be effective 1/1/2025.

Filed Date: 11/1/24.

Accession Number: 20241101-5177.

Comment Date: 5 p.m. ET 11/22/24.

Docket Numbers: ER25-336-000.

Applicants: BHE Glacier Wind 1, LLC.

Description: § 205(d) Rate Filing: Revisions to MBR Tariffs to Restore MBR Authority in Northwestern BAA to be effective 1/1/2025.

Filed Date: 11/1/24.

Accession Number: 20241101-5180.

Comment Date: 5 p.m. ET 11/22/24.

Docket Numbers: ER25-337-000.

Applicants: BHE Power Watch, LLC.

Description: § 205(d) Rate Filing: Revisions to MBR Tariffs to Restore MBR Authority in Northwestern BAA to be effective 1/1/2025.

Filed Date: 11/1/24.

Accession Number: 20241101-5181.

Comment Date: 5 p.m. ET 11/22/24.

Docket Numbers: ER25-338-000.

Applicants: BHE Rim Rock Wind, LLC.

Description: § 205(d) Rate Filing: Revisions to MBR Tariffs to Restore MBR Authority in Northwestern BAA to be effective 1/1/2025.

Filed Date: 11/1/24.

Accession Number: 20241101-5182.

Comment Date: 5 p.m. ET 11/22/24.

Docket Numbers: ER25-339-000.

Applicants: BHE Glacier Wind 2, LLC.

Description: § 205(d) Rate Filing: Revisions to MBR Tariffs to Restore MBR Authority in Northwestern BAA to be effective 1/1/2025.

Filed Date: 11/1/24.

Accession Number: 20241101-5183.

Comment Date: 5 p.m. ET 11/22/24.

Docket Numbers: ER25-340-000.

Applicants: BHE Wind Watch, LLC.

Description: § 205(d) Rate Filing: Revisions to MBR Tariffs to Restore MBR Authority in Northwestern BAA to be effective 1/1/2025.

Filed Date: 11/1/24.

Accession Number: 20241101-5186.

Comment Date: 5 p.m. ET 11/22/24.

Docket Numbers: ER25-341-000.

Applicants: American Electric Power Service Corporation, PJM Interconnection, L.L.C.

Description: § 205(d) Rate Filing: American Electric Power Service Corporation submits tariff filing per 35.13(a)(2)(iii: AEP submits one amended Facilities Agreement re: ILDSA, SA No. 1336 to be effective 1/1/2025.

Filed Date: 11/1/24.

Accession Number: 20241101-5191.

Comment Date: 5 p.m. ET 11/22/24.

Docket Numbers: ER25-342-000.

Applicants: Public Service Company of Colorado.

Description: § 205(d) Rate Filing: 2024-11-01-Att O-PSCo Formula Rate—Order 898 to be effective 1/1/2025.

Filed Date: 11/1/24.

Accession Number: 20241101-5200.

Comment Date: 5 p.m. ET 11/22/24.

Docket Numbers: ER25-343-000.

Applicants: The Narragansett Electric Company, ISO New England Inc.

Description: § 205(d) Rate Filing: The Narragansett Electric Company submits tariff filing per 35.13(a)(2)(iii: RIE Post-Retirement Benefits Other Than Pensions Expenses Refund Report to be effective 1/1/2025.

Filed Date: 11/1/24.

Accession Number: 20241101-5212.

Comment Date: 5 p.m. ET 11/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 1, 2024.
Carlos D. Clay,
Acting Deputy Secretary.

[FR Doc. 2024-25889 Filed 11-6-24; 8:45 am]

BILLING CODE 6717-01-P